DEPARTMENT OF HOUSING AND URBAN DEVELOPMENT

[Docket No. FR-7092-N-41]

Privacy Act of 1974; System of Records

AGENCY: Office of Administration, HUD.

ACTION: Notice of a New System of Records.

SUMMARY: Pursuant to the provisions of the Privacy Act of 1974, as amended, the Department of the Housing and Urban Development (HUD), per Circular No. A-108, Federal Agency Responsibilities for Review, Reporting, and Publication under the Privacy Act (PA), notice is hereby given by the Office of Administration, the Privacy Office is establishing a new system called “Privacy Act Request Files (PARF)”. This system covers all information collected, or stored, by HUD from the public under, and protected by the PA.

DATES: Comments will be accepted on or before December 30, 2024. This proposed action will be effective on the date following the end of the comment period unless comments are received which result in a contrary determination.

ADDRESSES: You may submit comments, identified by docket number or by one of the following methods:

Federal e-Rulemaking Portal: http://www.regulations.gov. Follow the instructions provided on that site to submit comments electronically.

Fax: 202-619-8365.

Email: www.privacy@hud.gov.

Mail: Attention: Privacy Office; LaDonne White, Chief Privacy Officer; Office of the Executive Secretariat; 451 Seventh Street SW, Room 10139; Washington, DC 20410-0001.

Instructions: All submissions received must include the agency name and docket number for this rulemaking. All comments received will be posted without change to http://www.regulations.gov, including any personal information provided.

Docket: For access to the docket to read background documents or comments received go to http://www.regulations.gov.

FOR FURTHER INFORMATION CONTACT: LaDonne White; 451 Seventh Street SW, Room 10139; Washington, DC 20410-0001; telephone number 202-708-3054 (this is not a toll-free number). Individuals who are hearing- or speech-impaired may access this telephone number via TTY by calling the Federal Relay Service at 800-877-8339 (this is a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The HUD Privacy Act Request Files covers all information collected under the Privacy Act (PA) including but not limited to PA information received via email, hardcopy communications, and other authorized means, including HUD's Privacy Act tracking and management, reporting, and e-Discovery software and tools. This system also covers information pertaining to any administrative appeals or litigation relating to Privacy Act requests to HUD or to another agency.

HUD proposes a new system of records, titled “Privacy Act Request Files,” to separate Privacy Act request records as an independent system of records.

SYSTEM NAME AND NUMBER:

Privacy Act Request Files (PARF), HUD/ADM-05.

SECURITY CLASSIFICATION:

Unclassified.

SYSTEM LOCATION:

Records are maintained at HUD Headquarters, 451 7th Street SW, Washington, DC 20410-0001.

SYSTEM MANAGER(S):

LaDonne White, Chief Privacy Officer, Office of Administration, 451 Seventh Street SW, Room 2184, Washington, DC 20410-0001. Phone: (202) 710-1298.

AUTHORITY FOR MAINTENANCE OF THE SYSTEM:

Privacy Act, 5 U.S.C. 552a, and HUD Privacy Handbook 1325.1 Rev. 1.0.

PURPOSES OF THE SYSTEM:

This system enables HUD to manage Privacy Act administration activities under the Privacy Act; process and track Privacy Act requests and appeals; and record access and amendment requests filed with HUD.

CATEGORIES OF INDIVIDUALS COVERED BY THE SYSTEM:

Individuals who submit information, or appeals, covered by the Privacy Act; individuals whose requests for records have been referred to HUD by other agencies or entities; attorneys or other persons representing individuals submitting such requests and appeals; individuals who are the subject of such requests and appeals or whose information may appear in records required for processing requests and appeals; and individuals who file litigation based on their requests.

CATEGORIES OF RECORDS IN THE SYSTEM:

Name, address (home & email), date of birth, alias used by the requester, requesters' parents' names (if applicable), dates requests are submitted and received, related appeals, and agency responses which could include internal Privacy Act administrative documents and responsive records.

RECORD SOURCE CATEGORIES:

Individual.

ROUTINE USES OF RECORDS MAINTAINED IN THE SYSTEM, INCLUDING CATEGORIES OF USERS AND PURPOSES OF SUCH USES:

1. To a congressional office from the record of an individual, in response to an inquiry at the request of that individual.

2. To contractors, grantees, experts, consultants and their agents, or others performing or working under a contract, service agreement, grant, cooperative agreement, or other agreement with HUD or under contract to another agency when necessary to accomplish an agency function related to a system of records. Disclosure requirements are limited to only those data elements considered relevant to accomplishing an agency function.

3. To appropriate agencies, entities, and persons when (1) HUD suspects or has confirmed that there has been a breach of the system of records, (2) HUD has determined that as a result of the suspected or confirmed breach there is a risk of harm to individuals, HUD (including its information systems, programs, and operations), the Federal Government, or national security; and (3) the disclosure made to such agencies, entities, and persons is reasonably necessary to assist in connection with HUD's efforts to respond to the suspected or confirmed breach or to prevent, minimize, or remedy such harm.

4. To another Federal agency or Federal entity, when HUD determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

5. To appropriate Federal, State, local, tribal, or other governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law. Records may only be disclosed upon a showing by the requester that the information is pertinent to the investigation.

6. To any component of the Department of Justice or other Federal agency conducting litigation or in proceedings before any court, adjudicative, or administrative body, and to another party before such court, adjudicative, or administrative body; when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

7. To the National Archives and Records Administration, Office of Government Information Services (OGIS), to the extent necessary to fulfill its responsibilities in 5 U.S.C. 552(h), to review administrative agency policies, procedures and compliance with the Freedom of Information Act (FOIA), and to facilitate OGIS' offering of mediation services to resolve disputes between persons making FOIA requests and administrative agencies.

8. To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

POLICIES AND PRACTICES FOR STORAGE OF RECORDS:

Paper and electronic.

POLICIES AND PRACTICES FOR RETRIEVAL OF RECORDS:

Name, email address, and contact number.

POLICIES AND PRACTICIES FOR RETENTION AND DISPOSAL OF RECORDS:

Records are covered under General Records Schedule (GRS) 4.2, Information Access and Protection Records. GRS 4.2 item 050, Privacy Act Accounting of Disclosure files, are disposed of in accordance with the subject individual records, or five years after the disclosure, whichever is later. GRS 4.2 item 060, erroneous release files associated with specific records, generally follow the original records disposition or are destroyed six years after the erroneous release, whichever is later.

ADMINISTRATIVE, TECHNICAL, AND PHYSICAL SAFEGUARDS:

For Electronic Records: Records are maintained and stored on the SharePoint environment, which runs on HUD's network. These records can only be accessed based off the user's rights and privileges to the system. Records are on an encrypted database system. This environment complies with the security and privacy controls and procedures as described in the Federal Information Security Management Act (FISMA), National Institute of Standards and Technology (NIST) Special Publications, and Federal Information Processing Standards (FIPS). A valid HSPD-12 ID Credential, access to HUD's Local Area Network (LAN), a valid User ID and Password and a Personalized Identification Number (PIN) is required to access the records.

For Electronic Records (cloud based): Records are secured and maintained on a cloud-based software server and operating system that resides in Federal Risk and Authorization Management Program (FedRAMP) and FISMA Moderate dedicated hosting environment. All data located in the cloud-based server is firewalled and encrypted at rest and in transit. The security mechanisms for handing data at rest and in transit are in accordance with HUD encryption standards.

RECORD ACCESS PROCEDURES:

Individuals requesting records of themselves should address written inquiries to the Department of Housing and Urban Development, 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing and Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

N/A.

HISTORY:

N/A.

LaDonne White,
Chief Privacy Officer, Office of Administration.

[FR Doc. 2024-27901 Filed 11-27-24; 8:45 am]

BILLING CODE P